SECURITIES AND EXCHANGE COMMISSION

[Release No. 34-93471; File Nos. SR-MIAX-2021-28, SR-EMERALD-2021-21]

Self-Regulatory Organizations; Miami International Securities Exchange, LLC and MIAX Emerald, LLC; Notice of Withdrawal of Proposed Rule Changes To Establish Fees for the Exchanges' cToM Market Data Products

October 29, 2021.

On June 30, 2021, Miami International Securities Exchange, LLC (“MIAX”) and MIAX Emerald, LLC (“MIAX Emerald”) (collectively, the “Exchanges”) each filed with the Securities and Exchange Commission (“Commission”), pursuant to Section 19(b)(1) of the Securities Exchange Act of 1934 (“Act”) ¹ and Rule 19b-4 thereunder,² a proposed rule change to establish fees for, respectively, the MIAX Complex Top of Market (“cToM”) and the MIAX Emerald cToM market data products.

¹ 15 U.S.C. 78s(b)(1).

² 17 CFR 240.19b-4.

The proposed rule changes were immediately effective upon filing with the Commission pursuant to Section 19(b)(3)(A) of the Act.³ The proposed rule changes were published for comment in the Federal Register on July 15, 2021.⁴ On August 27, 2021, the Commission temporarily suspended the proposed rule changes and instituted proceedings under Section 19(b)(2)(B) of the Act ⁵ to determine whether to approve or disapprove the proposed rule changes.⁶ On September 30, 2021, the Exchanges withdrew the proposed rule changes (SR-MIAX-2021-28, SR-EMERALD-2021-21).

³ 15 U.S.C. 78s(b)(3)(A). A proposed rule change may take effect upon filing with the Commission if it is designated by the exchange as “establishing or changing a due, fee, or other charge imposed by the self-regulatory organization on any person, whether or not the person is a member of the self-regulatory organization.” 15 U.S.C. 78s(b)(3)(A)(ii).

⁴ See Securities Exchange Act Release Nos. 92359 (July 9, 2021), 86 FR 37393 (SR-MIAX-2021-28); and 92358 (July 9, 2021), 86 FR 37361 (SR-EMERALD-2021-21).

⁵ 15 U.S.C. 78s(b)(2)(B).

⁶ See Securities Exchange Act Release No. 92789, 86 FR 49364 (September 2, 2021).

For the Commission, by the Division of Trading and Markets, pursuant to delegated authority.⁷
⁷ 17 CFR 200.30-3(a)(12).
J. Matthew DeLesDernier,
Assistant Secretary.

[FR Doc. 2021-24017 Filed 11-3-21; 8:45 am]

BILLING CODE 8011-01-P